DEPARTMENT OF ENERGY

Federal Energy Regulatory Commission

[Project No. 4202-025]

KEI Power Management, LLC; Notice of Reasonable Period of Time for Water Quality Certification Application

On September 12, 2024, the Maine Department of Environmental Protection (Maine DEP) submitted to the Federal Energy Regulatory Commission (Commission) notice that it received a request for a Clean Water Act section 401(a)(1) water quality certification from KEI Power Management, LLC, in conjunction with the above captioned project, on July 29, 2024. Pursuant to section 4.34(b)(5) of the Commission's regulations,¹ we hereby notify the Maine DEP of the following:

¹ 18 CFR [4.34(b)(5)/5.23(b)/153.4/157.22].

Date of Receipt of the Certification Request: July 29, 2024.

Reasonable Period of Time to Act on the Certification Request: One year, July 29, 2025.

If the Maine DEP fails or refuses to act on the water quality certification request on or before the above date, then the certifying authority is deemed waived pursuant to section 401(a)(1) of the Clean Water Act, 33 U.S.C. 1341(a)(1).

Dated: September 18, 2024.
Debbie-Anne A. Reese,
Acting Secretary.

[FR Doc. 2024-21884 Filed 9-24-24; 8:45 am]

BILLING CODE 6717-01-P